FEDERAL DEPOSIT INSURANCE CORPORATION

Agency Information Collection Activities: Proposed Collection Renewal; Comment Request; OMB No. 3064-0109; -00124; -0162; -0179; -0196

AGENCY: Federal Deposit Insurance Corporation (FDIC).

ACTION: Agency Information Collection Activities: Submission for OMB Review; Comment Request.

SUMMARY: The FDIC, as part of its obligations under the Paperwork Reduction Act of 1995, invites the general public and other Federal agencies to take this opportunity to comment on the request to renew the existing information collections described below (OMB Control No. 3064-0109; -0124; -0137; -0162; and -0196).

DATES: Comments must be submitted on or before October 21, 2021.

ADDRESSES: Interested parties are invited to submit written comments to the FDIC by any of the following methods:

• https://www.FDIC.gov/regulations/laws/federal.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street building (located on F Street), on business days between 7:00 a.m. and 5:00 p.m.

Written comments and recommendations for the proposed information collection should be sent within 30 days of publication of this notice to www.reginfo.gov/public/do/PRAMain. Find this particular information collection by selecting “Currently under 30-day Review—Open for Public Comments” or by using the search function.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION: Proposal to renew the following currently approved collections of information:

1. Title: Notice of Branch Closure.

OMB Number: 3064-0109.

Form Number: None.

Affected Public: FDIC-insured depository institutions.

Burden Estimate:

Summary of Annual Burden
Information collection description | Type of burden | Obligation to respond | Estimated number of respondents | Estimated average frequency of response | Estimated time per response (hours) | Estimated annual burden (hours)
Notice of Branch Closure | Reporting | Mandatory | 178 | 4.388 | 2 | 1,562
Adoption of Branch Closure Policy | Recordkeeping | Mandatory | 22 | On Occasion | 8 | 176

Total Estimated Annual Burden: 1,738 hours.

General Description of Collection: Section 42 of the Federal Deposit Insurance Act mandates that an insured depository institution closing a branch notify its primary federal regulator not later than 90 days prior to the closing. The statute also provides that a notice be posted on the premises of the branch for the 30-day period immediately prior to the closing and that the customers be notified in a mailing at least 90 days prior to the closing. Each insured depository institution that has one or more branches is required to adopt a written policy for branch closings. There is no change in the methodology or substance of this information collection. The slight increase in total estimated annual burden from 1,550 hours in 2018 to 1,738 hours currently is due to economic factors reflected in the increase in estimated number or respondents and in the frequency of response (number of branch closings per respondent).

2. Title: Notification of Changes of Insured Status.

OMB Number: 3064-0124.

Form Number: None.

Affected Public: Insured depository institutions.

Burden Estimate:

Summary of Annual Burden
Information collection description | Type of burden | Obligation to respond | Estimated number of respondents | Estimated average frequency of response | Estimated time per response (hours) | Estimated annual burden (hours)
Notification of Change in Insured Status | Disclosure | Mandatory | 8 | On Occasion | 2 | 16
Certification | Reporting | Mandatory | 240 | On Occasion | 1 | 240
Total Estimated Annual Burden: |  |  |  |  |  | 256 hours.

General Description of Collection: This information collection consists of two parts: (1) A certification that insured depository institutions provide the FDIC when all deposit liabilities from one insured depository institution are assumed from another insured depository institution, with the latter institution responsible for providing the certification, and (2) a notification that an insured depository institution provides to its depositors when it seeks to voluntarily terminate its insured status. The certification is necessary to implement the provisions of section 8(q) of the Federal Deposit Insurance Act, 12 U.S.C. 1818(q), regarding termination of the insured status of the transferring institution and termination of the separate deposit insurance coverage provided on deposit accounts assumed by the assuming institution. The depositor notification is required by section 8(a) (6) of the Federal Deposit Insurance Act, 12 U.S.C. 1818(a) (6). This provision ensures that the institution's depositors receive appropriate information regarding the institution's intent to terminate its insured status and that, prior to the termination of the institution's insured status, depositors receive appropriate information concerning federal deposit insurance coverage of their accounts once the institution's insured status is terminated. There is no change in the methodology or substance of this information collection. Based on supervisory experience, the FDIC has revised its estimate of the Time per Response for the Certification component from 0.25 hours to 1 hour and has revised the estimated time to respond to the Notification component from 1 hour to 2 hours. The estimated number of respondents has changed due to economic factors. The estimated number of annual respondents to the Notification component has increased from 2 to 8. The estimated number of annual respondents to the Certification component has increased from 150 to 240. As a result of the foregoing total estimated annual burden has increased from 39.5 hours in 2018 to 256 hours currently.

3. Title: Large-Bank Deposit Insurance Programs.

OMB Number: 3064-0162.

Form Number: None.

Affected Public: Insured depository institutions having at least $2 billion in deposits and at least either: (a) 250,000 Deposit accounts; or (b) $20 billion in total assets, regardless of the number of deposit accounts (a “covered institution”).

Burden Estimate:

Summary of Annual Burden
| Type of burden | Obligation to respond | Estimated number of respondents | Estimated frequency of responses | Estimated time per response | Frequency of response | Total annual estimated burden
Implementation
Posting and removing provisional holds—360.9(c)(1) and (2) | Recordkeeping | Mandatory | 7 | 1 | 150 | One time | 1,050
Providing standard data format for deposit account and customer information—360.9(d)(1) | Recordkeeping | Mandatory | 7 | 1 | 110 | One time | 770
Notification of identity of person responsible for producing standard data downloads—360.9(c)(3) | Reporting | Mandatory | 7 | 1 | 8 | One time | 56
Request for exemption from provisional hold requirements—360.9(c)(9) | Reporting | Voluntary | 1 | 1 | 20 | On occasion | 20
Provide deposit account and customer information in required standard format—360.9(d)(3) | Reporting | Mandatory | 7 | 1 | 40 | On occasion | 280
Request for extension of compliance deadline—360.9(e)(7) | Reporting | Voluntary | 1 | 1 | 20 | On occasion | 20
Request for exemption—360.9(f) | Reporting | Voluntary | 1 | 1 | 20 | On occasion | 20
Total Implementation Burden |  |  |  |  |  |  | 2,216
Ongoing
Notification of identity of person responsible for producing standard data downloads—360.9(c)(3) | Reporting | Mandatory | 126 | 1 | 8 | One time | 1,008
Request for exemption from provisional hold requirements—360.9(c)(9) | Reporting | Voluntary | 1 | 1 | 20 | On occasion | 20
Request for exemption—360.9(f) | Reporting | Voluntary | 1 | 1 | 20 | On occasion | 20
Test compliance with 360.9 (c)-(d) pursuant to 360.9(h) | Reporting | Mandatory | 40 | 1 | 80 | On occasion | 3,200
Total Ongoing Burden |  |  |  |  |  |  | 4,248
Total Estimated Annual Burden |  |  |  |  |  |  | 6,464

General Description of Collection: Upon the failure of an FDIC-insured depository institution, the FDIC is required to pay insured deposits as soon as possible. To do so, the FDIC must be able to quickly determine the total insured amount for each depositor. To make this determination, the FDIC must ascertain the balances of all deposit accounts owned by the same depositor in the same ownership capacity at a failed institution as of the day of failure. The FDIC issued a regulation (12 CFR 360.9) (Section 360.9) to modernize the process of determining the insurance status of each depositor in the event of failure of a covered institution. The FDIC requires institutions that are covered under Section 360.9 to have mechanisms in place that will automatically place a provisional hold on domestic and foreign deposit accounts, and sweep and automated credit account arrangements, in the event that a covered institution is close to failing. A “provisional hold” is defined in 12 CFR Section 360.9(b)(6) as “an effective restriction on access to some or all of a deposit or other liability account after the failure of an insured depository institution.” Section 360.9 also requires institutions to have in place practices and procedures for providing the FDIC, in a standard format upon the close of any day's business, certain data on the accounts and customers of the institution, and to provide the FDIC with this information upon request. The purpose of these requirements is to allow the deposit and other operations of a covered institution to continue functioning on the day following failure, and to permit the FDIC to fulfill its legal requirement to promptly provide liquidity to depositors of a failed institution. This information also helps to ensure equitable treatment of depositors at different institutions, and helps to preserve the franchise value of a failed institution, thereby reducing costs to the FDIC in the event that a covered institution fails.

FDIC-insured depository institutions (IDIs) that are covered by Section 360.9 are defined in Section 360.9(b)(1) as having at least $2 billion in deposits and either (1) 250,000 or more deposit accounts, or (2) $20 billion or more in assets, regardless of the number of deposit accounts. IDIs that meet this criteria for two consecutive quarters qualify as covered institutions.

This information collection consists of seven distinct reporting and recordkeeping requirements (ICs) that impose annual implementation burden on covered institutions. Four of these seven reporting requirements entail an ongoing burden component: (1) Section 360.9(c)(3) (IC requirements C and H, below) requires covered institutions to provide certain information to the FDIC both while the institution is implementing the systems required under 360.9 (IC requirement C) and on an ongoing basis (IC requirement H); (2) Section 360.9(c)(9) (IC requirements D and I, below) permits institutions to request an exemption from certain requirements of Section 360.9. Institutions could submit such requests either while they are implementing the systems required under Section 360.9 (IC requirement D) or after they are already in compliance with Section 360.9 (IC requirement I); (3) Section 360.9(f) (IC requirements G and J, below) permits institutions to request an exemption from all of the requirements of Section 360.9 under certain conditions. Institutions could submit such requests either while they are implementing the systems required under Section 360.9 (IC requirement G) or after they are already in compliance with Section 360.9 (IC requirement J). Since reporting by institutions pursuant to Sections 360.9(c)(3), 360.9(c)(9), and 360.9(f) are counted as both implementation and ongoing requirements, this IC contains eleven ¹ requirements in total. These requirements, with corresponding CFR sections, are listed and described as follows:

¹ 8 distinct requirements, plus 3 requirements that are counted as both implementation and ongoing requirements, brings the total number of requirements for this IC to 11.

A. 360.9(c)(1) and (2) (Implementation)—Require covered institutions to set up systems for automatically placing provisional holds on domestic and foreign deposit accounts and sweep and automated credit account arrangements

B. 360.9(d)(1) and (2) (Implementation)—Require covered institutions to establish practices and procedures for providing the FDIC, in a standard format upon the close of any day's business, customer and depositor data for all deposit accounts held in domestic and foreign offices and interest bearing investment accounts connected with sweep and automated credit arrangements

C. 360.9(c)(3) (Implementation)—Requires covered institutions to notify the FDIC of the person(s) responsible for producing the standard data download and administering provisional holds, both while the functionality is being constructed and on an ongoing basis (IC requirement H)

D. 360.9(c)(9) (Implementation)—Permits covered institutions to submit to the FDIC a request for an exemption from the provisional hold requirements for those account systems servicing a relatively small number of accounts where the application of manual provisional holds is feasible, both while the systems are being constructed and on an ongoing basis (IC requirement I)

E. 360.9(d)(3) (Implementation)—Requires covered institutions to submit the data required by 360.9(d)(1) to the FDIC upon request both while the systems are being constructed and on an ongoing basis (IC requirement K)

F. 360.9(e)(7) (Implementation)—Permits covered institutions to submit to the FDIC a request for an extension of the deadline for complying with the requirements of Section 360.9

G. 360.9(f) (Implementation)—Permits covered institutions to apply for an exemption from the requirements of Section 360.9, if the institution has a high concentration of deposits incidental to credit card operations, both during the implementation period in the first year and on an ongoing basis (IC requirement J)

H. 360.9(c)(3) (Ongoing)—Requires covered institutions to provide the information described in IC requirement C above to the FDIC on an ongoing basis

I. 360.9(c)(9) (Ongoing)—Permits covered institutions to request an exemption from the provisional hold requirements, as described in IC requirement D above, both while the systems are being constructed and on an ongoing basis

J. 360.9(f) (Ongoing)—Permits covered institutions to apply for an exemption from the requirements of Section 360.9, as described in IC requirement G above, at any time after the institution is in compliance with the requirements of Section 360.9 if the institution has a high concentration of deposits incidental to credit card operations. The ongoing burden component under 12 CFR Section 360.9(f) was inadvertently omitted from the 2018 submission and is now included in this renewal.

K. 360.9(h) (Ongoing)—Requires covered institutions to provide appropriate assistance to the FDIC in its testing of the systems required under Section 360.9

There is no change in the methodology or substance of this information collection. The decrease in total estimated annual burden from 10,268 hours in 2018 to 6,064 hours currently, is due to economic factors reflected in a decrease in the number of estimated annual respondents. The inclusion of ongoing burden for requests for exemption pursuant to 12 CFR 360.9(f) accounts for an increase of 20 hours in total estimated annual burden for one respondent.

4. Title: Assessment Rate Adjustment Guidelines for Large and Highly Complex Institutions.

OMB Number: 3064-0179.

Form Number: None.

Affected Public: Large and highly complex depository institutions.

Burden Estimate:

Summary of Annual Burden
Information collection description | Type of burden | Obligation to respond | Estimated number of respondents | Estimated frequency of responses | Estimated time per response (hours) | Estimated annual burden (hours)
Assessment Rate Adjustment Guidelines for Large and Highly Complex Institutions | Reporting | Mandatory | 2 | On Occasion | 80 | 160

Total Estimated Annual Burden: 160 hours.

General Description of Collection: The FDIC's deposit insurance assessment authority is set forth in Section 7 of the Federal Deposit Insurance Act, 12 U.S.C. 1817(b) and (c) and promulgated in regulations under 12 CFR part 327. These regulations also set out the process for making adjustments to the total score of these institutions used by the FDIC in making deposit insurance assessments. Depository institutions are permitted to make a written request to the FDIC for an assessment adjustment. An institution is able to request review of, or appeal, an upward adjustment, the magnitude of an upward adjustment, removal of a previously implemented downward adjustment or an increase in a previously implemented upward adjustment through the FDIC's internal review process set forth at 12 CFR 327.4(c). An institution can similarly request review of or appeal a decision not to apply an adjustment following a request by the institution for an adjustment.

An institution can submit its written request for an adjustment to the FDIC's Director of the Division of Insurance and Research in Washington, DC In making such a request, the institution will provide support by including evidence of a material risk or risk-mitigating factor that it believes was not adequately considered.

There is no change in the methodology or substance of this information collection. The increase in total estimated annual burden from 80 hours in 2018 to 160 hours currently is due to economic factors as reflected in the increase in estimated number of respondents.

5. Title: Regulatory Capital Rules: Regulatory Capital, Revisions to the Supplementary Leverage Ratio.

OMB Number: 3064-0196.

Form Number: None.

Affected Public: Insured state nonmember banks and state savings associations that are subject to the FDIC's advanced approaches risk-based capital rules.

Burden Estimate:

Summary of Annual Burden
Information collection description | Type of burden | Obligation to respond | Estimated number of respondents | Estimated frequency of responses | Estimated time per response (hours) | Estimated annual burden (hours)
Disclosure Requirements Associated with Supplementary Leverage Ratio (12 CFR 324.172 and 173) | Disclosure | Mandatory | 5 | Quarterly | 5 | 100

Total Estimated Annual Burden: 100 hours.

General Description of Collection: The supplementary leverage ratio regulations strengthen the definition of total leverage exposure and improve the measure of a banking organization's on and off-balance sheet exposures. All banking organizations that are subject to the advanced approaches risk-based capital rules are required to disclose their supplementary leverage ratios. Advanced approaches banking organizations must report their supplementary leverage ratios on the applicable regulatory reports. The calculation and disclosure requirements for the supplementary leverage ratio in the federal banking agencies' regulatory capital rules are generally consistent with international standards published by the Basel Committee on Banking Supervision. These disclosures enhance the transparency and consistency of reporting requirements for the supplementary leverage ratio by all internationally active organizations.

There is no change in the methodology or substance of this information collection. The increase in total estimated annual burden from 40 hours in 2018 to 100 hours currently is due to economic factors as reflected in the increase in estimated number of respondents.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Dated at Washington, DC, this 15th day of September 2021.
Federal Deposit Insurance Corporation.
James P. Sheesley,
Assistant Executive Secretary.

[FR Doc. 2021-20306 Filed 9-20-21; 8:45 am]

BILLING CODE 6714-01-P